DEPARTMENT OF AGRICULTURE

Forest Service

McKelvie Geographic Area Rangeland Allotment Management Plans on National Forest System Lands on the Samuel R. McKelvie National Forest, Bessey Ranger District in Nebraska

AGENCY: Forest Service, USDA.

ACTION: Notice of Intent to Prepare an Environmental Impact Statement in conjunction with the revision of allotment management plans.

SUMMARY: Revise Rangeland Allotment Management Plans (RAMP) for all allotments within the McKelvie Geographic Area and analyze continuation of grazing within the constraints of the Revised Nebraska Land and Resource Management Plan (NLRMP).

DATES: Comments concerning the scope of the analysis must be received within 30 days after publication in the Federal Register. The draft environmental impact statement is expected February 2007 and the final environmental impact statement is expected May 2007.

ADDRESSES: Send written comments to: Michael E. Croxen, Interdisciplinary Team Leader, USDA Forest Service, P.O. Box 39, Halsey Nebraska 69142.

FOR FURTHER INFORMATION CONTACT: Michael E. Croxen, Interdisciplinary Team Leader, USDA Forest Service, P.O. Box 39, Halsey Nebraska 69142. Phone (308) 533-2257.

SUPPLEMENTARY INFORMATION: Purpose and Need for Action: The purpose of the EIS is to determine current conditions, analyze environmental consequences of actions to those conditions, and assist the decision maker in selecting management/monitoring strategies consistent with meeting desired conditions in the NLRMP. The need for the action is to ensure that authorized uses and associated management activities move them towards or maintain desired NLRMP conditions.

Proposed Action: The Bessey Ranger District proposes to implement best management practices and activities with adaptive management and monitoring strategies to ensure compliance between current conditions and NLRMP desired conditions.

Possible alternatives: No-Action Alternative is to not change current permitted uses. No-Grazing alternative is to eliminate any grazing on the project area.

Responsible Official: Patricia D. Barney, District Ranger, Bessey Ranger District, P.O. Box 39, Halsey Nebraska 69142.

Nature of Decision to be Made: The decision to be made is whether or not to continue permitted uses within the project area. If uses are permitted, then adaptive management strategies and monitoring will be identified to ensure compliance with desired NLRMP conditions.

Scoping Process: The agency sent a letter to interested parties on May 19, 2006 requesting comments concerning the scope of the analysis. Comments were due by June 19, 2006.

Release and Review of the Draft Environmental Impact Statement: The draft environmental impact statement (DEIS) is expected to be filed with the Environmental Protection Agency (EPA) and to be available for public comment by February 2007. At that time, the EPA will publish a notice of availability for the DEIS in the Federal Register. The comment period on the DEIS will be 45 days from the date the EPA publishes the notice of availability in the Federal Register.

Reviewers of the DEIS must structure their participation in the environmental review of the proposal so that it is meaningful and alerts an agency to the reviewer's position and contentions; Vermont Yankee Nuclear Power Com. v NRDC, 435 U.S. 519, 553 (1978). Also, environmental objections that could be raised at the DEIS stage but are not raised until after completion of the Final Environmental Impact Statement (FEIS) may be waived or dismissed by the courts; City of Angoon v. Hodel, 803 F. 2d 1016, 1022 (9th Cir. 1986) and Wisconsin.

Heritages, Inc., v. Harris, 490 F. Supp. 1334, 1338 (E.D. Wis. 1980). Because of these court rulings, it is very important that those interested in this proposed action participate by the close of the 45 day comment period so that substantive comments and objections are made available to the Forest Service at a time when it can meaningfully consider them and respond to them in the FEIS.

To assist the Forest Service in identifying and considering issues and concerns on the proposed actions, comments on the DEIS should be as specific as possible. It is also helpful if comments refer to specific pages or chapters of the draft statement. Comments may also address the adequacy of the DEIS or the merits of the alternatives formulated and discussed in the statements. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: May 5, 2006.
Patricia D. Barney,
District Ranger.

[FR Doc. 06-4518 Filed 5-12-06; 8:45 am]

BILLING CODE 3410-11-M